DEPARTMENT OF AGRICULTURE

Food Safety and Inspection Service

[Docket No. 04-037N]

Treatment of Live Poultry Before Slaughter

AGENCY: Food Safety and Inspection Service, USDA.

ACTION: Notice.

SUMMARY: The Food Safety and Inspection Service (FSIS) is reminding all poultry slaughter establishments that, under the Poultry Products Inspection Act (PPIA) and Agency regulations, live poultry must be handled in a manner that is consistent with good commercial practices, which means they should be treated humanely. Although there is no specific federal humane handling and slaughter statute for poultry, under the PPIA, poultry products are more likely to be adulterated if, among other circumstances, they are produced from birds that have not been treated humanely, because such birds are more likely to be bruised or to die other than by slaughter.

FOR FURTHER INFORMATION CONTACT: Lynn Dickey, PhD, Director, Regulations and Petitions Policy Staff, Office of Policy, Program, and Employee Development, Food Safety and Inspection Service, Cotton Annex Building, 300 12th Street, SW., Room 112, Washington, DC 20250-3700; (202) 720-5627.

Comments

FSIS invites interested persons to submit comments on this notice. Submit comments by October 28, 2005. Comments may be submitted by any of the following methods:

• Mail, including floppy disks or CD-ROM's, and hand- or courier-delivered items: Send to Docket Clerk, U.S. Department of Agriculture, Food Safety and Inspection Service, 300 12th Street, SW., Room 102 Cotton Annex, Washington, DC 20250.

All submissions received must include the Agency name and docket number 04-037N. All comments submitted in response to this notice, as well as research and background information used by FSIS in developing this document, will be available for public inspection in the FSIS Docket Room at the address listed above between 8:30 a.m. and 4:30 p.m., Monday through Friday. The comments also will be posted on the Agency's Web site at http://www.fsis.usda.gov/regulations/2004_Notices_Index/Index.asp.

SUPPLEMENTARY INFORMATION:

The Poultry Products Inspection Act (PPIA) and Implementing Regulations

FSIS considers humane methods of handling animals and humane slaughter operations a high priority and takes seriously any violations of applicable laws and regulations. In poultry operations, employing humane methods of handling and slaughtering that are consistent with good commercial practices increases the likelihood of producing unadulterated product.

FSIS regulations describe the operating procedures that poultry processors must follow to ensure sanitary processing, proper inspection, and the production of poultry products that are not adulterated. Under 9 CFR 381.71, FSIS condemns poultry showing, on ante mortem inspection, certain diseases or conditions. Bruising is one condition that may result in condemnation (9 CFR 381.89). Bruises are likely to result when birds are not treated humanely.

Moreover, the PPIA (21 U.S.C. 453(g)(5)), as well as the Agency's regulations (9 CFR 381.90), provide that carcasses of poultry showing evidence of having died from causes other than slaughter are considered adulterated and condemned. The regulations also require that poultry be slaughtered in accordance with good commercial practices, in a manner that results in thorough bleeding of the poultry carcass, and ensures that breathing has stopped before scalding so that the birds do not drown (9 CFR 381.65(b)). Compliance with these requirements helps ensure that poultry are treated humanely.

The Reason FSIS Is Issuing This Notice at This Time

FSIS is issuing this notice because there has been considerable congressional and public interest in the humane treatment of animals, including poultry. As FSIS explained in the September 9, 2004, Federal Register, in recent years, Congress has taken various actions to strengthen USDA's resources and to ensure that FSIS enforces the statutory provisions concerning the humane handling and slaughter of livestock (69 FR 54625). In addition, the U.S. Department of Agriculture has received several letters from members of Congress expressing concerns regarding the humane treatment of poultry and supporting legislation to include provisions for the humane treatment of poultry in the Humane Methods of Slaughter Act (HMSA). The HMSA of 1978 (7 U.S.C.1901 et seq.) requires that humane methods be used for handling and slaughtering livestock but does not include comparable provisions concerning the handling and slaughter of poultry.

In the September 9, 2004, Federal Register, FSIS also explained that, in addition to this congressional interest, FSIS has received over 20,000 letters from the public (individuals, consumer organizations, and animal welfare organizations) over the last few years expressing concerns regarding the humane treatment of livestock (69 FR 54626). Some of these letters also expressed concerns regarding the humane treatment of poultry. In addition, the U.S. Department of Agriculture has received nearly 13,000 e-mail messages supporting legislation to include provisions for the humane treatment of poultry in the HMSA.

Finally, FSIS received a petition from the Animal Legal Defense Fund, dated November 21, 1995, requesting that FSIS amend the Federal poultry products inspection regulations to require humane standards of slaughter for poultry. FSIS denied the petition because, as is explained above, there is no specific federal humane handling and slaughter statute for poultry. However, as is also explained above, the PPIA and Agency regulations do require that live poultry be handled in a manner that is consistent with good commercial practices, and that they not die from causes other than slaughter.

Undesirable Consequences of Not Handling Poultry in Accordance With Good Commercial Practices

The abuse of poultry by killing them by an unacceptable method or by treating them in a manner that is not consistent with good commercial practices may render the poultry product adulterated and, hence, not acceptable for human food. The dead birds are considered to be cadavers (carcasses of poultry showing evidence of having died from causes other than slaughter) and are condemned. These carcasses are not of good quality, are undesirable, and are of no profitable advantage to establishments, as they are not marketable and could not be sold. In contrast, the use of good commercial practices tends to produce poultry that is processed according to federal requirements, and that is wholesome and marketable.

It is a prohibited act to slaughter poultry in any way that is not in compliance with the PPIA (21 U.S.C. 458(a)(1)). If birds hung on the slaughter line expire prior to slaughter due to mishandling, or are being killed in a manner that does not comply with good commercial practices, the resultant product is adulterated under the PPIA.

FSIS Perspective on the Treatment of Poultry

Many poultry operations may not be aware of industry guidelines pertaining to the treatment of poultry at slaughter. FSIS has included a list of references at the end of this notice that may assist poultry slaughter establishments in considering means of assessing or improving their handling and slaughter procedures. One method poultry operations may wish to examine is a systematic approach to ensuring that poultry is handled and slaughtered in a manner that is consistent with good commercial practices. By a “systematic approach,” FSIS means one in which establishments focus on treating poultry in such a manner as to minimize excitement, discomfort, and accidental injury the entire time that live poultry is held in connection with slaughter. Establishments can achieve such an approach by:

(1) Assessing under what circumstances poultry may experience excitement, discomfort, or accidental injury while being handled in connection with slaughter;

(2) Taking steps to minimize the possibility of such excitement, discomfort, and accidental injury; and

(3) Evaluating periodically how poultry are being handled and slaughtered to ensure (a) that any excitement, discomfort, or accidental injury is being minimized; (b) that all poultry are slaughtered in a manner that results in thorough bleeding of the poultry carcass; and (c) that breathing has stopped before scalding.

In the first step of a systematic approach, establishments conduct an assessment of where handling problems may occur. They would consider such factors as (1) whether they are providing training for their employees in handling live poultry, (2) whether feed and water withdrawal is kept to the minimum level consistent with good processing practices, (3) whether they have appropriately designed and maintained facilities for bird delivery to the establishment, (4) whether holding areas are equipped with an adequate number of fans to ensure proper ventilation for birds, (5) whether stunning equipment (if applicable) and killing equipment are constantly monitored to ensure proper functioning for humane processing, (6) whether all poultry are dead before entering the scalder, and (7) whether establishment personnel and equipment handle poultry in a manner that minimizes broken legs and wings. These factors are based on information provided in the National Chicken Council Animal Welfare Guidelines and Audit Checklist, which is included in the list of references at the end of this notice.

As a second step of a systematic approach, establishments determine whether their facilities are designed and maintained to prevent excitement, discomfort, and accidental injury to poultry the entire time that live poultry is held in connection with slaughter.

In the third step, establishments periodically evaluate their handling methods to ensure that their employees are in fact minimizing excitement, discomfort, or accidental injury to live poultry, that their methods ensure all poultry are slaughtered in a manner that results in thorough bleeding of the carcass, and that their methods ensure poultry breathing has stopped before scalding.

Additional Public Notification

Public awareness of all segments of rulemaking and policy development is important. Consequently, in an effort to ensure that the public and in particular minorities, women, and persons with disabilities, are aware of this notice, FSIS will announce it on-line through the FSIS Web page located at http://www.fsis.usda.gov/regulations/2005_Notices_Index/Index.asp. FSIS also will make copies of this Federal Register publication available through the FSIS Constituent Update, which is used to provide information regarding FSIS policies, procedures, regulations, Federal Register notices, FSIS public meetings, recalls, and other types of information that could affect or would be of interest to constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an electronic mail subscription service that provides an automatic and customized notification when popular pages are updated, including Federal Register publications and related documents. This service is available at http://www.fsis.usda.gov/news_and_events/e-mail_subscription/ and allows FSIS customers to sign up for subscription options in eight categories. Options range from recalls to export information to regulations, directives and notices. Customers can add or delete subscriptions themselves and have the option to password protect their accounts.

References

The following sources are available for review in the FSIS Docket Room, Cotton Annex, 300 12th Street, SW., Room 102, Washington, DC 20250 between 8:30 a.m. and 4 p.m., Monday through Friday.

Food Marketing Institute/National Council of Chain Restaurants Animal Welfare Audit Program. Information about the program is available at http://www.awaudit.org/.

National Chicken Council Animal Welfare Guidelines and Audit Checklist. Available at http://www.nationalchickencouncil.com/.

Thaler, A.M., “The United States Perspective Towards Poultry Slaughter.” Poultry Science. February 1999. v. 78 (2), p. 298-301.

Done at Washington, DC on September 23, 2005.
Barbara J. Masters,
Administrator.

[FR Doc. 05-19378 Filed 9-27-05; 8:45 am]

BILLING CODE 3410-DM-P